ENVIRONMENTAL PROTECTION AGENCY

[FRL-8738-5]

New York State Prohibition of Marine Discharges of Vessel Sewage; Receipt of Petition and Final Affirmative Determination

AGENCY: Environmental Protection Agency (EPA).

ACTION: Notice.

SUMMARY: Notice is hereby given that a petition has been received from the State of New York requesting a determination by the Regional Administrator, U.S. Environmental Protection Agency, that adequate facilities for the safe and sanitary removal and treatment of sewage from all vessels are reasonably available for Hempstead Harbor, Nassau County, New York. The waters of the proposed No Discharge Zone fall within the jurisdictions of the Town of North Hempstead, the Town of Oyster Bay, the County of Nassau, the City of Glen Cove and the Villages of Sea Cliff, Roslyn Harbor, Roslyn, Flower Point and Sands Point. These entities, through the New York Department of State and the Hempstead Harbor Protection Committee prepared the application for the designation of a Vessel Waste No Discharge Zone, which was submitted by the New York State Department of Environmental Conservation.

EPA published a Tentative Affirmative Determination on July 15, 2008, in the Federal Register.

Public comments were solicited for 30 days and the comment period ended on August 14, 2008. Comments were received from three individuals, one stating that EPA should not blame the boaters for water quality problems, one supporting the proposed NDZ and one who finds that pumpout facilities are sometimes inoperable and that fines should be levied against the marinas that cannot provide the pumpout service on which our determinations are based.

Regarding the first comment of “blaming the boaters,” Section 312(f)(3) of the Clean Water Act allows States to prohibit the discharge of sewage, whether treated or untreated, from vessels for the greater protection and enhancement of water quality. EPA determines whether adequate facilities, for the safe and sanitary removal and treatment of the sewage, are reasonably available. We have found the facilities in the proposed areas are reasonably available and recommend finalizing our determination. Regarding the third comment, the Clean Water Act Section 312(f) does not provide for the assessment of fines against marinas for inoperable pumpouts. In the past, when we have been made aware of inoperable or inaccessible pumpouts we have contacted the State agencies and requested their assistance in resolution of the matter. The situation has always been resolved as expeditiously as possible. EPA will continue to refer complaints about non-operational pumpouts to the appropriate State and local authorities when such complaints are received.

SUPPLEMENTARY INFORMATION: Notice is hereby given that a petition has been received from the State of New York requesting a determination by the Regional Administrator, U.S. Environmental Protection Agency, pursuant to section 312(f)(3) of Public Law 92-500 as amended by Public Law 95-217 and Public Law 100-4, that adequate facilities for the safe and sanitary removal and treatment of sewage from all vessels are reasonably available for Hempstead Harbor and its harbors and creeks within the following boundaries: South of a line drawn from Mott Point on the west side of the harbor to a breakwater approximately one-half mile north of Mosquito Cove on the east side of the harbor (Lat 40°52′ N, Long 73°40′ W) within the Villages of Sea Cliff, Roslyn, Roslyn Harbor, Flower Point and Sands Point and the City of Glen Cove.

New York has provided documentation indicating that the total vessel population is estimated to be 1,350 in the proposed area. Five pumpout facilities are operational in the harbor, these facilities are Tappen Marina, Bar Beach, Brewer's Marina, Sea Cliff Yacht Club, and Glen Cove Yacht Club. In addition to these five pumpout facilities, the Towns of North Hempstead Harbor and Oyster Bay each operate pumpout boats that serve the harbor. Based upon the criteria cited in the Clean Vessel Act and based upon the vessel population, Hempstead Harbor requires approximately three to five pumpout facilities. The harbor has seven facilities operational which satisfies the criteria.

Tappen Marina Pumpout is located at 40°50′2.44″ N/73°39′2.93″ W. The pumpout is user operated and available 24 hours per day and 365 days a year. The contact for information on the pumpout is the Town of Oyster Bay Dockmaster or the Parks Commissioner at 516-674-7100 and the facility fee is free. Vessel limitations are 50 feet in length and 10 feet in draft. An onsite septic field is used for disposal, with transport to a wastewater treatment plant as backup.

Brewer's Marina is located at 40°51′16.17″ N/73°38′46.51″ W. The pumpout is user operated and available 24 hours per day from April 1 to November 30, seven days a week. The contact for information is the Brewer's Marina at 516-671-5563 and the facility fee is free. Vessel limitations are 40 feet in length and 6 feet in draft. The pumpout facility is directly connected to the Glen Cove wastewater treatment facility.

Sea Cliff Yacht Club is located at 40°51′11.03″ N/73°38′59.11″ W and is available Memorial Day through October 15th, 9 a.m. until 5 p.m. on weekdays and by appointment on weekends. The contact for information is Jim Kowchesski, Manager, at (516) 671-7374 or the Dockmaster at (516) 671-0193 and the facility fee is $5.00. Vessel limitations are 40 feet in length and 4.5 feet in draft. The pumpout facility discharges to the Glen Cove wastewater treatment facility.

The Town of Oyster Bay Pumpout Boat operates in Hempstead Harbor and Oyster Bay and is available June through October, Friday through Monday. The contact for information is the Town of Oyster Bay at 516-677-5711 or VHF Channel 9 and the fee is free. No vessel limitations exist. The Roosevelt Marina pumpout is used for disposal sewage from the pumpout boat and the marina pumpout discharges to the Oyster Bay Sewer District wastewater treatment plant.

The Town of North Hempstead Pumpout Boat operates in Hempstead Harbor and Manhasset Bay and is available June through September, Wednesday through Sunday. The contact for information is the Town of Hempstead at 516-767-4622 or VHF Channel 9 and the fee is free. No vessel limitations exist. The pumpout boat discharges to the local sewer at Town dock. While Bar Beach and the Glen Cove Yacht Club pumpout facilities are listed in the petition, no information is provided regarding location, contact information or fees.

The EPA hereby makes a final affirmative determination that adequate facilities for the safe and sanitary removal and treatment of sewage from all vessels are reasonably available for Hempstead Harbor in the County of Nassau, New York.

Dated: October 16, 2008.
Alan J. Steinberg,
Regional Administrator, Region 2.

[FR Doc. E8-26495 Filed 11-5-08; 8:45 am]

BILLING CODE 6560-50-P